DEPARTMENT OF THE INTERIOR

Bureau of Land Management

[16X LLAK980600.L1820000.XX0000.LXSIARAC0000]

Notice of Cancellation of Public Meeting, BLM Alaska Resource Advisory Council

AGENCY: Bureau of Land Management, Alaska State Office, Interior.

ACTION: Notice of cancellation of public meeting.

SUMMARY: The Bureau of Land Management (BLM) Alaska Resource Advisory Council (RAC) has been cancelled.

DATES: The meeting was to be held June 28-30, 2016, at the Arctic Interagency Visitor Center, Dalton Highway, Coldfoot, Alaska 99701.

FOR FURTHER INFORMATION CONTACT: June Lowery, RAC Coordinator, BLM Alaska State Office, 222 W. 7th Avenue #13, Anchorage, AK 99513; jlowery@blm.gov; 907-271-3130.

SUPPLEMENTARY INFORMATION: The 15-member council advises the Secretary of the Interior, through the BLM, on a variety of planning and management issues associated with public land management in Alaska.

Dated: June 16, 2016.
Bud C. Cribley,
State Director.

[FR Doc. 2016-14849 Filed 6-22-16; 8:45 am]

BILLING CODE 4310-JA-P